DEPARTMENT OF THE INTERIOR

30 CFR Part 553

[Docket ID: BOEM-2012-0076; MMAA104000]

RIN 1010-AD87

Consumer Price Index Adjustments of the Oil Pollution Act of 1990 Limit of Liability for Offshore Facilities

AGENCY: Bureau of Ocean Energy Management (BOEM), Interior.

ACTION: Proposed rule—extension of public comment period.

SUMMARY: BOEM has proposed to add a new subpart G to its regulations on Oil Spill Financial Responsibility (OSFR) for Offshore Facilities designed to increase the limit of liability for damages applicable to offshore facilities under the Oil Pollution Act of 1990 (OPA), to reflect significant increases in the Consumer Price Index (CPI) since 1990, and to establish a methodology BOEM would use to periodically adjust for inflation the OPA offshore facility limit of liability.

BOEM is publishing this update to its regulations and is soliciting public comments on the method of updates, the clarity of the rule and any other pertinent matters. The Department originally limited the rulemaking comment period to 30 days since it did not anticipate receiving significant comments on this rulemaking. Since the publication of this proposed rule on Monday, February 24, 2014 (79 FR 10056), numerous comments have been received and various groups have requested that additional time be provided for them to review and analyze the implications of this proposed rule. For that reason, the comment period is being extended by an additional 30 days. The new comment period will elapse 60 days from February 24, 2014, the original date of publication of the proposed rule.

DATES: Submit comments by April 25, 2014.

ADDRESSES: You may submit comments on the rulemaking by any of the following methods. Please use the Regulation Identifier Number (RIN) 1010-AD87 as an identifier in your submission.

• Federal eRulemaking Portal: http://www.regulations.gov. In the entry entitled, “Enter Keyword or ID,” enter BOEM-2012-0076, then click search. Follow the instructions to submit public comments and view supporting and related materials available for this rulemaking. BOEM will post all comments received during the comment period.

• Mail or hand-carry comments to the Department of the Interior; Bureau of Ocean Energy Management; Attention: Peter Meffert, Office of Policy, Regulations and Analysis (OPRA); 381 Elden Street, MS-4001, Herndon, Virginia 20170-4817. Please reference “Consumer Price Index Adjustments of the Oil Pollution Act of 1990 Limit of Liability for Offshore Facilities” in your comments and include your name and return address so that we may contact you if we have questions regarding your submission.

• Email comments to the Department of the Interior; Bureau of Ocean Energy Management; Attention: Peter Meffert, Office of Policy, Regulations and Analysis (OPRA) at peter.meffert@boem.gov.

Public Availability of Comments

• Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Questions regarding the limit of liability established by this proposed rule, or related to the limits of liability adjustment process, should be directed to Dr. Marshall Rose, Chief, Economics Division, Office of Strategic Resources, Bureau of Ocean Energy Management at 381 Elden Street, MS-4050 Herndon, Virginia 20170-4817 at (703) 787-1538 or email at marshall.rose@boem.gov.

Dated: March 11, 2014.
Tommy P. Beaudreau,
Principal Deputy Assistant Secretary—Land and Minerals Management.

[FR Doc. 2014-06047 Filed 3-18-14; 8:45 am]

BILLING CODE 4310-MR-P